ENVIRONMENTAL PROTECTION AGENCY

[EPA-HQ-OPP-2010-0014; FRL-9962-88]

Product Cancellation Order for Certain Pesticide Registrations

AGENCY: Environmental Protection Agency (EPA).

ACTION: Notice.

SUMMARY: This notice announces EPA's order for the cancellations, voluntarily requested by the registrants and accepted by the Agency, of the products listed in Table 1 of Unit II., pursuant to the Federal Insecticide, Fungicide, and Rodenticide Act (FIFRA). This cancellation order follows a June 8, 2016 Federal Register Notice of Receipt of Requests from the registrants listed in Table 2 of Unit II. to voluntarily cancel these product registrations. In the June 8, 2016 notice, EPA indicated that it would issue an order implementing the cancellations, unless the Agency received substantive comments within the 180-day comment period that would merit its further review of these requests, or unless the registrants withdrew their requests. The Agency did not receive any comments on the notice. Further, the registrants did not withdraw their requests. Accordingly, EPA hereby issues in this notice a cancellation order granting the requested cancellations. Any distribution, sale, or use of the products subject to this cancellation order is permitted only in accordance with the terms of this order, including any existing stocks provisions.

DATES: The cancellations are effective July 5, 2017.

FOR FURTHER INFORMATION CONTACT: Michael Yanchulis, Information Technology and Resources Management Division (7502P), Office of Pesticide Programs, Environmental Protection Agency, 1200 Pennsylvania Ave., NW., Washington, DC 20460-0001; telephone number: (703) 347-0237; email address: yanchulis.michael@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for this action, identified by docket identification (ID) number EPA-HQ-OPP-2010-1014, is available at http://www.regulations.gov or at the Office of Pesticide Programs Regulatory Public Docket (OPP Docket) in the Environmental Protection Agency Docket Center (EPA/DC), West William Jefferson Clinton Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What action is the agency taking?

This notice announces the cancellations and/or amendment to terminate uses, as requested by registrants, of products registered under FIFRA section 3 (7 U.S.C. 136a). These registrations are listed in sequence by registration number in Table 1 and Table 2 of this unit. The following registration numbers that were listed in the Federal Register of June 8, 2016 (81 FR 36913) (FRL-9943-68) have already been cancelled in previous Federal Register notices: 81002-1 on September 18, 2015 (80 FR 56457); 9198-205 on October 3, 2016 (81 FR 68013); and 3525-71, 3525-91, 3525-96, 3525-109, CA-030012, MA-080001, OR-080035, OR-100010 and TX-100019 on March 22, 2017 (82 FR 14717).

Table 1—Product Cancellations
Registration No. | Product name | Chemical name
100-1244 | Banner Dry Maxx | Propiconazole.
10324-56 | Maquat 256 | Alkyl* dimethyl benzyl ammonium chloride *(60%C14, 30%C16, 5%C18, 5%C12) and Alkyl* dimethyl ethylbenzyl ammonium chloride *(68%C12, 32%C14).
35935-41 | Dithiopyr Technical | Dithiopyr.
35935-49 | Dynamo Dithiopyr Technical | Dithiopyr.
35935-75 | Dithiopyr Technical | Dithiopyr.
53883-207 | Dithiopyr 0.13% Plus Fertilizer | Dithiopyr.
53883-208 | Dithiopyr 0.25% Plus Fertilizer | Dithiopyr.
53883-209 | Dithiopyr 0.172% Plus Fertilizer | Dithiopyr.
53883-210 | Dithiopyr 0.107% Plus Fertilizer | Dithiopyr.
53883-211 | Dithiopyr 0.06% Plus Fertilizer | Dithiopyr.
53883-212 | Dithiopyr 0.086% Plus Fertilizer | Dithiopyr.
53883-213 | Dithiopyr 0.1% Plus Fertilizer | Dithiopyr.
53883-268 | Dithiopyr Concentrate for Fertilizer | Dithiopyr.
53883-311 | Dithiopyr 0.13% Plus Fertilizer | Dithiopyr.
66222-143 | Alias 4F Flowable Insecticide | Imidacloprid.
AZ-080006 | Brigade 2EC Insecticide/Miticide | Bifenthrin.
ND-110002 | Moncut 70-DF | Flutolanil.
ND-130003 | F7583-3 Herbicide | S-Metolachlor and Sulfentrazone.
OR-100003 | TOPSIN M WSB | Thiophanate-methyl.
SD-130008 | SC 547 Herbicide | Tembotrione and Thiencarbazone-methyl.
WA-090003 | Topsin M 70WP | Thiophanate-methyl.
WA-930026 | Rovral 4 Flowable Fungicide | Iprodione.
WA-940006 | Rovral 4 Flowable Fungicide | Iprodione.
WA-960027 | Rovral 4 Flowable Fungicide | Iprodione.

Table 2—Product Registration Amendments To Terminate One or More Uses
Registration No. | Product name | Chemical name | Uses to be deleted
524-475 | Roundup Ultra Herbicide | Glyphosate-isopropylammonium | Seed production of creeping bentgrass with a Roundup Ready Gene.

Table 3 of this unit includes the names and addresses of record for all registrants of the products in Table 1 of this unit, in sequence by EPA company number. This number corresponds to the first part of the EPA registration numbers of the products listed in Table 1 of this unit.

Table 3—Registrants of Cancelled Products
EPA Company No. | Company name and address
100 | Syngenta Crop Protection, LLC, PO Box 18300, Greensboro, NC 27419.
524 | Monsanto Company, 1300 I Street, NW., Suite 450 East, Washington, DC 20005-7211.
10324 | Mason Chemical Company, 723 W. Algonquin Road, Suite B, Arlington Heights, IL 60005.
35935 | Nufarm Limited (Agent to Nufarm Americas, Inc.), 4020 Aerial Center Parkway, Suite 101, Morrisville, NC 27560.
53883 | Control Solutions, Inc., 5903 Genoa-Red Bluff Road, Pasadena, TX 77507-1041.
66222 | Makhteshim Agan of North America, Inc., 3120 Highwoods Blvd., Suite 100, Raleigh, NC 27604.
AZ-080006, ND-130003 | FMC Corp., 1735 Market Street, Room 1971, Philadelphia, PA 19103.
ND-110002 | Gowan Company, P.O. Box 5569, Yuma, AZ 85366.
OR-100003, WA-090003 | Nippon Soda Co., Ltd., 88 Pine Street, 14th Floor, New York, NY 10005.
SD-130008, WA-930026, WA-940006, WA-960027 | Baryer Cropscience, LP, 2 T.W. Alexander Drive, P.O. Box 12014, Research Triangle Park, NC 27709.

III. Summary of Public Comments Received and Agency Response to Comments

During the public comment period provided, EPA received two general comments concerning the chemical, glyphosate. The Agency does not believe that the comments submitted during the comment periods merits further review or the denial of the requests for the voluntary cancellations of products listed in Table 1 of Unit II or the request for the amendment to terminate uses in Table 2 or Unit II.

IV. Cancellation Order

Pursuant to FIFRA section 6(f) (7 U.S.C. 136d(f)), EPA hereby approves the requested cancellations and/or amendment to terminate uses of the registrations identified in Table 1 and Table 2 of Unit II. Accordingly, the Agency hereby orders that the product registrations identified in Table 1 of Unit II. are canceled and/or amended to terminate the effective uses. The effective date of the cancellations that are the subject of this notice is July 5, 2017. Any distribution, sale, or use of existing stocks of the products identified in Table 1 of Unit II. in a manner inconsistent with any of the provisions for disposition of existing stocks set forth in Unit VI. will be a violation of FIFRA.

V. What is the agency's authority for taking this action?

Section 6(f)(1) of FIFRA (7 U.S.C. 136d(f)(1)) provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment in the Federal Register of June 8, 2016 (81 FR 36913) (FRL-9943-68). The comment period closed on December 5, 2016.

VI. Provisions for Disposition of Existing Stocks

Existing stocks are those stocks of registered pesticide products which are currently in the United States and which were packaged, labeled, and released for shipment prior to the effective date of the cancellation action. The existing stocks provisions for the products subject to this order are as follows.

The registrant(s) may continue to sell and distribute existing stocks of product(s) listed in Table 1 of Unit II. until July 5, 2018, which is 1 year after the publication of the Cancellation Order in the Federal Register. Thereafter, the registrants are prohibited from selling or distributing products listed in Table 1, except for export in accordance with FIFRA section 17 (7 U.S.C. 136o), or proper disposal. Persons other than the registrants may sell, distribute, or use existing stocks of products listed in Table 1 of Unit II. until existing stocks are exhausted, provided that such sale, distribution, or use is consistent with the terms of the previously approved labeling on, or that accompanied, the canceled products.

Authority: 7 U.S.C. 136 et seq.

Dated: May 25, 2017.
Delores Barber,
Director, Information Technology and Resources Management Division, Office of Pesticide Programs.

[FR Doc. 2017-14088 Filed 7-3-17; 8:45 am]

BILLING CODE 6560-50-P